FEDERAL MINE SAFETY AND HEALTH REVIEW COMMISSION

Sunshine Act Meetings

TIME AND DATE: 10:30 a.m., Wednesday, July 9, 2025.

PLACE: The meeting will be held via remote means and/or in the Richard V. Backley Hearing Room, Room 511, 1331 Pennsylvania Avenue NW, Suite 504 North, Washington, DC 20004.

STATUS: Closed.

MATTERS TO BE CONSIDERED: The Commission will conduct a meeting closed to the public to consider briefing by the Commission, if any, in the matter MosenecaManufacturer, LLC, d/b/a American Tripoli v. Federal Mine Safety and Health Review Commission, No. 25-1349 (8th Cir.). Commissioners will attend the meeting. Commission staff members who provide technological support and other Commission staff may also be present as necessary. This meeting is closed to the public pursuant to 5 U.S.C. 552b(c)(10) on the basis of the Commission's “participation in a civil action or proceeding.” The Commission determined that shorter than usual notice for a meeting was required by official agency business.

CONTACT PERSON FOR MORE INFORMATION: Rory P. Smith, (202) 525-8649/(202) 708-9300 for TDD Relay/1-800-877-8339 for toll free.

(Authority: 5 U.S.C. 552b.)

Dated: July 8, 2025.
Rory P. Smith,
Attorney-Advisor.

[FR Doc. 2025-12932 Filed 7-9-25; 11:15 am]

BILLING CODE 6735-01-P